DEPARTMENT OF LABOR

Notice of Final Determination To Remove Shrimp From Thailand and Garments From Vietnam From the List of Products Requiring Federal Contractor Certification as to Forced or Indentured Child Labor Pursuant to Executive Order 13126

AGENCY: Bureau of International Labor Affairs, Department of Labor.

ACTION: Notice of final determination.

SUMMARY: This notice is a final determination to revise the list required by Executive Order No. 13126 (“Prohibition of Acquisition of Products Produced by Forced or Indentured Child Labor”, hereafter the E.O. List). The E.O. List identifies a list of products, by their country of origin, that the Department of Labor (DOL), in consultation and cooperation with the Department of State (DOS) and the Department of Homeland Security (DHS) (collectively, the Departments), has a reasonable basis to believe might have been mined, produced, or manufactured by forced or indentured child labor.

SUPPLEMENTARY INFORMATION: This final determination revises the E.O. List required by E.O. 13126 in accordance with DOL's Procedural Guidelines for the Maintenance of the List of Products Requiring Federal Contractor Certification as to Forced or Indentured Child Labor (Procedural Guidelines) as published in the January 18, 2001 Federal Register (66 FR 5351). On May 10, 2024, DOL, in consultation and cooperation with DOS and DHS, published a Notice of Initial Determination in the Federal Register proposing to remove shrimp from Thailand and garments from Vietnam from the E.O. List (89 FR 40509). The initial determination stated the Departments had preliminarily determined that the use of forced or indentured child labor in the production of those products had been significantly reduced and invited public comments until June 10, 2024, on whether these products should be removed from the E.O. List.

The initial determination, and the public comments submitted, can be viewed at Docket ID No. DOL-2024-0003 or requested from Ryan Olden at: Office of Child Labor, Forced Labor, and Human Trafficking (OCFT), Bureau of International Labor Affairs, Room S-5317, U.S. Department of Labor, 200 Constitution Avenue NW, Washington, DC 20210; telephone: (202) 693-48467, email: eo13126@dol.gov. Individuals with hearing or speech impairments may access the telephone number above via TTY by calling the Federal Information Relay Service at 1-877-889-5627.

During the public comment period, DOL received one comment, which was submitted by the National Fisheries Institute (NSI). The comment made reference back to a previous comment NSI had submitted on a past notice (USTR-2023-0003), published by the Office of the United States Trade Representative (USTR). DOL, however, was unable to locate the referenced comment, and thus could not consider it as part of its final determination whether to remove shrimp from Thailand and/or garments from Vietnam from the E.O. 13126 List. DOL located a separate comment from the NSI on another USTR notification (USTR-2022-0006), which outlines the NSI's recommendations related to a proposed USTR forced labor strategy. However, DOL ultimately determined that the comment was not responsive to the Notice of Initial Determination, as it did not contain relevant information specific to forced child labor in the production of either shrimp from Thailand or garments from Vietnam.

Following the closure of the comment period on June 10, 2024, the Departments concluded that based on available information, there is no longer a reasonable basis to believe that forced or indentured child labor is used in the production of the following products, identified by their countries of origin:

Product: Shrimp

Country: Thailand

DOL has received recent, credible, and corroborated information from various sources on shrimp production in Thailand. This information indicates that while children previously worked under forced labor conditions in the production of shrimp, the use of forced child labor appears to have been significantly reduced. Therefore, the Departments have concluded that there is no longer a reasonable basis to believe that shrimp from Thailand is produced by forced or indentured child labor, except in a few isolated instances, and therefore it should not remain on the E.O. List.

DOL placed shrimp from Thailand on the E.O. List in 2009, and to date, the listing cites 11 sources dating from 2006 to 2015. Sources indicated that children in Thailand—primarily migrant children—were peeling shrimp in small, unregulated “shrimp sheds.” In more than isolated incidents, these migrant children were engaged in forced child labor. Following international attention and action on labor exploitation in Thailand's seafood industry, the Royal Thai Government (RTG) and other stakeholders made a series of concerted significant efforts to address child labor and forced child labor throughout the seafood industry, including in the shrimp peeling sector.

The RTG acceded to the ILO's Maritime Labor Convention and the ILO's Work in Fishing Convention and passed the Ministerial Regulation Prohibiting Children in Seafood Processing. The RTG also enacted the Royal Ordinance on Fisheries, which enhanced traceability systems of aquatic resources in Thailand, inclusive of shrimp processing, and strengthened migrant worker recruitment regulations through revisions in the Labor Protection Act of 1998 and the Royal Ordinance on Foreign Worker Management (No. 2). Additionally, the RTG collaborated with international nongovernmental organizations to implement projects focused on eliminating forced child labor and child labor in the seafood processing sector, including the Combatting Unacceptable Forms of Work in the Thai Fishing and Seafood Industry program funded by the ILO and the European Union; the FAIR Fish program funded by DOL; and the Ship to Shore project funded by the EU. Private sector entities also acted against forced child labor by formalizing their supply chains, eliminating nearly all unregulated “shrimp sheds” in which child labor and forced child labor were previously documented. In 2023, Thai government officials, an industry trade group, workers' associations, international organizations, and nongovernmental organizations reported that incidents of forced child labor in shrimp processing had been reduced to no more than isolated cases. DOL's review of available information corroborated that forced child labor in the production of shrimp had been significantly reduced to isolated incidents.

Product: Garments

Country: Vietnam

DOL has also received recent, credible, and corroborated information from various sources on garment production in Vietnam. This information indicates that while children previously worked under forced labor conditions in the production of garments, the use of forced child labor appears to have been significantly reduced. Therefore, the Departments have concluded that there is no longer a reasonable basis to believe that garments from Vietnam are produced by forced or indentured child labor, except in a few isolated instances, and therefore it should not continue to be on the E.O. List.

DOL placed garments from Vietnam on the E.O. List in 2012, and to date, the listing cites 18 sources dating from 2008 to 2015. Sources indicated that children in Vietnam—primarily children from rural areas—were being trafficked from their homes to Ho Chi Minh City, where they were coerced to work, and often live, in garment factories. Reports indicated that children working in the sector were underpaid, forced to work long hours, and in many cases were found living in the workshops. Between 2010 and 2014 there were between 20 and 64 children trafficked for these purposes each year, after which the number of child trafficking cases dropped rapidly. Reporting that exposed this trafficking pipeline was led by data from Blue Dragon Children's Foundation (BDCF)—a local NGO which functions as a key partner to the Vietnamese police. According to the U.S. Embassy in Hanoi and its contacts, all forced child labor cases in Vietnamese garment factories go through BDCF for intervention, removal of children from the trafficking situations, and victim services.

Research indicates that following reports of forced child labor in the sector, the police worked quickly and effectively to identify both victims and perpetrators of this trafficking pipeline. The police shut down all responsible criminal enterprises. According to a 2021 BDCF report, BDCF rescue operations for victims of trafficking have not uncovered a child in sweatshop labor since 2017.

Since the addition of garments to the E.O. List in 2012, Vietnam has made efforts in its legal framework, partnerships, and enforcement efforts to eradicate and prevent forced child labor in this sector. Vietnam enacted a Labor Code in 2012 prohibiting unlawful, underage, and/or forced labor of children, and included regulations on the employment of minors including working hours, working times of day, and types of work allowed for minors. Vietnam specifically prohibited minors from operating fabric and yarn-starching machines as well as dyeing and dry-cleaning fabric and yarn, criminalized child trafficking, and affirmed the right of children to be protected from labor exploitation. Additionally, Vietnam has conducted two national programs on the reduction of child labor and has conducted a national survey on child labor. The government continues to work with Blue Dragon, as well as other INGOs and NGOs like the ILO, Fair Wear Foundation, and Better Work. Vietnam actively collaborates with stakeholders on programs like ENHANCE, which aims to build governmental capacity to address and prevent child labor; and Fear Wear's programming which brings together key stakeholders to enhance the rights of garment workers. Reports also indicate that grievance mechanisms exist and are accessible for garment workers.

Background: E.O. 13126 was signed on June 12, 1999, and published in the Federal Register on June 16, 1999 (64 FR 32383). E.O. 13126 declared that it was “the policy of the United States Government . . . that executive agencies shall take appropriate actions to enforce the laws prohibiting the manufacture or importation of goods, wares, articles, and merchandise mined, produced or manufactured wholly or in part by forced or indentured child labor.” The E.O. defines “forced or indentured child labor” as “all work or service (1) exacted from any person under the age of 18 under the menace of any penalty for its nonperformance and for which the worker does not offer himself voluntarily; or (2) performed by any person under the age of 18 pursuant to a contract the enforcement of which can be accomplished by process or penalties.”

Pursuant to E.O. 13126, and following public notice and comment, the Department of Labor published in the January 18, 2001 Federal Register the first E.O. List of products, along with their respective countries of origin, that DOL, in consultation and cooperation with the Department of State and the Department of the Treasury (whose relevant responsibilities are now within the Department of Homeland Security), had a reasonable basis to believe might have been mined, produced, or manufactured with forced or indentured child labor (66 FR 5353). This list included 11 goods produced in 12 countries. DOL also published the Procedural Guidelines on January 18, 2001 which provide procedures for the maintenance, review, and, as appropriate, revision of the E.O. List (66 FR 5351).

The Procedural Guidelines provide that the E.O. List may be revised through consideration of submissions by individuals and on the three Departments' own initiative. When proposing a revision to the E.O. List, DOL must publish in the Federal Register a notice of initial determination, which includes any proposed alteration to the E.O. List. The Departments will consider all public comments prior to the publication of a final determination of a revised E.O. List.

On January 18, 2001, pursuant to Section 3 of E.O. 13126, the Federal Acquisition Regulatory Council published a final rule to implement specific provisions of E.O. 13126 that require, among other things, that Federal contractors who supply products that appear on the list certify to the contracting officer that the contractor, or, in the case of an incorporated contractor, a responsible official of the contractor, has made a good faith effort to determine whether forced or indentured child labor was used to mine, produce, or manufacture any product furnished under the contract and that, on the basis of those efforts, the contractor is unaware of any such use of forced or indentured child labor (48 CFR subpart 22.15).

On September 11, 2009, the Department of Labor published an initial determination in the Federal Register proposing to revise the E.O. List to include 29 products from 21 countries. The Notice requested public comments for a period of 90 days. Public comments were received and reviewed by all relevant agencies and a final determination was issued on July 20, 2010. Following the same process, the E.O. List was revised again in 2011, 2012, 2013, 2014, 2019, and 2022. The most recent E.O. List, with this published notice, includes 33 products from 25 countries.

The current E.O. List and the Procedural Guidelines can be accessed at https://www.dol.gov/agencies/ilab/reports/child-labor/list-of-products or can be obtained from: OCFT, Bureau of International Labor Affairs, Room S-5313, U.S. Department of Labor, 200 Constitution Avenue NW, Washington, DC 20210; telephone: (202) 693-4843; fax (202) 693-4830.

(Authority: E.O. 13126, 64 FR 32383)

Signed at Washington, DC.
Thea Mei Lee,
Deputy Undersecretary for International Affairs.

[FR Doc. 2024-18767 Filed 9-4-24; 8:45 am]

BILLING CODE 4510-28-P